DEPARTMENT OF HEALTH AND HUMAN SERVICES

Food and Drug Administration

[Docket No. FDA-2013-N-0007]

Prescription Drug User Fee Rates for Fiscal Year 2014; Correction

AGENCY: Food and Drug Administration, HHS.

ACTION: Notice; correction.

SUMMARY: The Food and Drug Administration is correcting a notice entitled “Prescription Drug User Fee Rates for Fiscal Year 2014” that appeared in the Federal Register of August 2, 2013 (78 FR 46980). The document announced the Fiscal Year 2014 fee rates for the Prescription Drug User Fee Act. The document was published with four errors. This document corrects those errors.

FOR FURTHER INFORMATION CONTACT: David Miller, Office of Financial Management (HFA-100), Food and Drug Administration, 1350 Piccard Dr., PI50, Rm. 210J, Rockville, MD 20850, 301-796-7103.

SUPPLEMENTARY INFORMATION: In the Federal Register of Friday, August 2, 2013, in FR Doc. 2013-18624, on pages 46981 and 46982 the following corrections are made:

1. On page 46981, in the second column, in the second sentence of the second paragraph under I. Background, “$718,699,000” is corrected to read “$718,669,000”.

2. On page 46981, in the third column, in the first sentence of the first paragraph under II. Fee Revenue Amount for 2014, “$718,699,000” is corrected to read “$718,669,000”.

3. On page 46981, in the third column, in the first sentence of the first paragraph under A. FY 2014 Statutory Fee Revenue Adjustments for Inflation, “$718,699,000” is corrected to read “$718,669,000”.

4. On page 46982, in the first column, in the first sentence of the first paragraph under B. FY 2014 Statutory Fee Revenue Adjustments for Workload, “$718,699,000” is corrected to read “$718,669,000”.

Dated: August 22, 2013.
Leslie Kux,
Assistant Commissioner for Policy.

[FR Doc. 2013-20958 Filed 8-27-13; 8:45 am]

BILLING CODE 4160-01-P